DEPARTMENT OF COMMERCE

National Oceanic and Atmospheric Administration

[RTID 0648-XF540]

South Atlantic Fishery Management Council; Public Meeting

AGENCY: National Marine Fisheries Service (NMFS), National Oceanic and Atmospheric Administration (NOAA), Commerce.

ACTION: Meeting of the South Atlantic Fishery Management Council.

SUMMARY: The South Atlantic Fishery Management Council (Council) will hold meetings of the following: Snapper Grouper Commercial Sub-Committee; Snapper Grouper Committee, and Southeast Data Assessment and Review (SEDAR) Committee. The meeting week will also include a formal public comment session and meetings of the Full Council.

DATES: The Council meeting will be held from 2 p.m. on Monday, March 2, 2026, until 12 p.m. on Friday, March 6, 2026.

ADDRESSES: Meeting address: The meeting will be held at the Villas by the Sea Resort, 1175 N Beachview Drive, Jekyll Island, GA 31527; phone (912) 635-2521. The meeting will also be available via webinar. See SUPPLEMENTARY INFORMATION.

FOR FURTHER INFORMATION CONTACT: Myra Brouwer, Deputy Director for Management, SAFMC; phone (843) 302-8436 or toll free (866) SAFMC-10; FAX (843) 769-4520; email: myra.brouwer@safmc.net.

SUPPLEMENTARY INFORMATION: Meeting information, including agendas, overviews, and briefing book materials will be posted on the Council's website at: https://safmc.net/council-meetings/. Webinar registration links for the meeting will also be available from the Council's website.

Public comment: Public comment on agenda items may be submitted through the Council's online comment form available from the Council's website at: https://safmc.net/events/march-2026-council-meeting/. Written comments will be accepted from February 13, 2026, until March 6, 2026. These comments are accessible to the public, part of the Administrative Record of the meeting, and immediately available for Council consideration. A formal public comment session will also be held during the Council meeting.

The items of discussion in the individual meeting agendas are as follows:

Snapper Grouper Commercial Sub-Committee, Monday, March 2, 2026, 2 p.m. Until 5 p.m.

The Snapper Grouper Commercial Sub-Committee will continue reviewing management measures proposed in Amendment 60 to the Snapper Grouper Fishery Management Plan to address permits and trip efficiency in the commercial fishery. The Sub-Committee will also receive feedback from the Law Enforcement Advisory Panel regarding the proposed measures.

Council Session I, Tuesday, March 3, 2026, 8:30 a.m. Until 3 p.m.

The Council will receive a litigation brief and reports from state agencies, Council liaisons, the Law Enforcement Advisory Panel, Resilient Fisheries projects, the Habitat and Ecosystem Advisory Panel, Lines of Communications meetings, and the Shrimp Workgroup. The Council will also receive briefings from the National Marine Fisheries Service Southeast Regional Office and the Southeast Fisheries Science Center (SEFSC). The Council will receive a presentation on NOAA fisheries progress towards a value/risk matrix for managed stocks and review a draft comment letter on the proposed rule for commercial Atlantic Blacknose Shark and recreational Atlantic shark fisheries.

Snapper Grouper Committee, Tuesday, March 3, 2026, 3:15 p.m. Until 5 p.m., Wednesday, March 4, 2026, 8:30 a.m. Until 3:45 p.m., and Thursday, March 5, 2026, 8:30 a.m. Until 12 p.m.

The Committee will receive updates from the National Marine Fisheries Service on amendments undergoing rulemaking, any new Exempted Fishing Permit (EFP) applications, and the EFPs that were submitted in November 2025 by the South Atlantic states to pilot state management of the recreational Red Snapper fishery in the South Atlantic.

The Committee will review the report from the Commercial Sub-Committee meeting held earlier in the week. The Committee will discuss an amendment to address sunsetting of Spawning Special Management Zones and consider feedback from the Law Enforcement Advisory Panel on enforcement and compliance with the closed areas. The Committee will review information on potential changes to regulations for South Atlantic headboats and consider feedback on this topic from the Law Enforcement Advisory Panel. The Committee will also review sector allocations for Vermilion Snapper and Red Grouper.

The Committee will continue discussion of Amendment 61 to the Snapper Grouper Fishery Management Plan to evaluate the composition of the Snapper Grouper Fishery Management Unit and consider feedback from the Law Enforcement Advisory Panel. The Committee will receive an update on the status of needed information to continue developing Amendment 56 addressing Black Sea Bass and review progress on Amendment 44 to the Snapper Grouper Fishery Management Plan addressing catch levels for Yellowtail Snapper and Mutton Snapper. The Committee is scheduled to finalize an Innovation Plan for the Snapper Grouper Fishery and review topics for the spring meeting of the Snapper Grouper Advisory Panel.

Wednesday, March 4, 2026, 4 p.m.—Public comment will be accepted from individuals attending the meeting in person and via webinar on all items on the Council meeting agenda. The Council Chair will determine the amount of time provided to each commenter based on the number of individuals wishing to comment.

SEDAR Committee, March 5, 2026, 1:30 p.m. Until 3:30 p.m.

The Committee will receive a report from the SEDAR Steering Committee and discuss SEDAR process updates. The Committee will review statements of work and terms of reference for upcoming assessments and discuss the Committee's scope and name change.

Council Session II, Thursday, March 5, 3:45 p.m. Until 5 p.m. and Friday, March 6, 2026, 8:30 a.m. Until 12 p.m.

The Council will receive an update on progress on the Dolphin Management Strategy Evaluation from the SEFSC and review the Council's response to Executive Order 14276 in 2025. The Council will review its workplan, topics for the spring meeting of the Outreach and Communication Advisory Panel, and upcoming meetings for the year. The Council will review reports from the committees that met during the week and discuss any other business as needed.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 5 days prior to the meeting.

Note: The times and sequence specified in this agenda are subject to change.

(Authority: 16 U.S.C. 1801 et seq.)

Dated: February 13, 2026.
Becky J. Curtis,
Acting Deputy Director, Office of Sustainable Fisheries, National Marine Fisheries Service.

[FR Doc. 2026-03167 Filed 2-17-26; 8:45 am]

BILLING CODE 3510-22-P